DEPARTMENT OF COMMERCE

International Trade Administration

[A-570-851]

Certain Preserved Mushrooms From the People's Republic of China: Extension of Time Limit for Final Results of the Tenth Antidumping Duty New Shipper Review

AGENCY: Import Administration, International Trade Administration, Department of Commerce.

DATES: Effective Date: September 27, 2007.

FOR FURTHER INFORMATION CONTACT: Julia Hancock, AD/CVD Operations, Office 9, Import Administration, International Trade Administration, U.S. Department of Commerce, 14th Street and Constitution Avenue, NW., Washington, DC 20230; telephone: (202) 482-1394.

Background

On July 19, 2007, the Department of Commerce (“the Department”) issued the preliminary results of this new shipper review. See Certain Preserved Mushrooms from the People's Republic of China: Preliminary Results of the Antidumping Duty New Shipper Review, 72 FR 45734 (August 15, 2007) (“Preliminary Results”).

Extension of Time Limits for Final Results

Section 751(a)(2)(B)(iv) of the Tariff Act of 1930, as amended (the “Act”), and 19 CFR 351.214(i)(1) require the Department to issue the preliminary results of a new shipper review within 180 days after the date on which the new shipper review was initiated and final results of a review within 90 days after the date on which the preliminary results were issued. The Department may, however, extend the deadline for completion of the final results of a new shipper review to 150 days if it determines that the case is extraordinarily complicated. See section 751(a)(2)(B)(iv) of the Act, and 19 CFR 351.214(i)(2).

On August 30, 2007, the Department sent a supplemental questionnaire to the respondent in this review, Guangxi Jisheng Foods, Inc. (“Jisheng”), regarding information Jisheng and its importer had placed on the record about their respective legal structure. Additionally, as stated in the Preliminary Results, the Department intends to verify, as provided in section 782(i)(3) of the Act, sales and cost information submitted by the respondent, Jisheng. See Preliminary Results, 72 FR at 45735. As a result of the extraordinarily complicated issues raised in this review segment, including Jisheng's and its importer's legal structure, and the additional time needed to evaluate Jisheng's response to our questions, and analyze the information that will be gathered at Jisheng's sales and cost verification, it is not practicable to complete this new shipper review within the current time limit. Accordingly, the Department is extending the time limit for the completion of the final results by 60 days until December 16, 2007, in accordance with section 751(a)(2)(B)(iv) of the Act and 19 CFR 351.214(i)(2). However, because December 16, 2007, falls on a Sunday, the final results will be due on December 17, 2007, the next business day.

We are issuing and publishing this notice in accordance with sections 751(a)(2)(B) and 777(i)(1) of the Act.

Dated: September 17, 2007.
Stephen J. Claeys,
Deputy Assistant Secretary for Import Administration.

[FR Doc. E7-19107 Filed 9-26-07; 8:45 am]

BILLING CODE 3510-DS-P